ENVIRONMENTAL PROTECTION AGENCY

40 CFR Part 52

[FRL-7554-1]

Prevention of Significant Deterioration; Notice of Partial Delegation of Authority; Nevada Division of Environmental Protection

AGENCY: Environmental Protection Agency (EPA).

ACTION: Notice of Partial Delegation of PSD permitting authority.

SUMMARY: This document is to inform interested parties that, by a Delegation Agreement dated June 3, 2003, the Air Division Director of EPA, Region 9, is implementing a partial delegation of authority to issue Federal Prevention of Significant Deterioration (PSD) permits to the Nevada Division of Environmental Protection (NDEP).

DATES: The Delegation Agreement with NDEP is effective on June 3, 2003.

ADDRESSES: You can inspect a copy of the partial PSD Delegation Agreement at our Region IX office during normal business hours. Due to security procedures, please call Roger Kohn at 415-972-3973 at least one day in advance of inspecting this document at our office: Permits Office (AIR-3), Air Division, U.S. Environmental Protection Agency, Region IX, 75 Hawthorne Street, San Francisco, CA 94105.

You may also see copies of the partial Delegation Agreement at the following location: Nevada Division of Environmental Protection, Bureau of Air Pollution Control, 333 West Nye Lane, Carson City, NV 89706.

FOR FURTHER INFORMATION CONTACT: Gerardo Rios, EPA Region IX, (415) 972-3974, or send email to rios.gerardo@epa.gov.

SUPPLEMENTARY INFORMATION: Throughout this document, “we,” “us” and “our” refer to EPA.

I. Background

In 1978, EPA published final regulations at 40 CFR 52.21, implementing the PSD program required under part C of the Clean Air Act, 42 U.S.C. 7475-7479. See 43 FR 26403 (June 19, 1978). The PSD regulations provide authority to EPA to delegate the responsibility for conducting PSD source review to a State or local air pollution control agency. 40 CFR 52.21(u). In general, delegations are implemented through agreements between EPA Regions and State or local air pollution control agencies. These agreements between the Agency and permitting agencies set out the responsibilities of each in carrying out the federal PSD program for that jurisdiction. The specific elements of delegation agreements vary to take into consideration particular circumstances, such as legal restrictions that may apply in a specific jurisdiction.

Pursuant to its authority under § 52.21(u), Region 9 entered into a PSD delegation agreement with the Nevada Division of Environmental Protection (NDEP) on May 27, 1983. Region 9 published a notice of the delegation agreement in the Federal Register, (see 48 FR 28269, June 21, 1983).

On December 31, 2002, EPA published its Final Rule significantly revising 40 CFR 52.21. 67 FR 80186 (December 31, 2002). The revised rules were effective on March 3, 2003.

Since publication of the revised PSD rules, Region 9 has consulted with NDEP, who indicated that changes to Nevada law would be necessary for them to fully implement the revisions to 40 CFR 52.21.

As NDEP did not believe that current law would allow it to fully implement revised 40 CFR 52.21, Region 9 withdrew the 1983 delegation agreement for issuing Federal PSD permits on March 3, 2003.

NDEP has advised EPA that it is on schedule to adopt State regulations consistent with the revised Federal PSD regulations and intends to submit those to EPA for approval into the Nevada State Implementation Plan (SIP) as a SIP revision. NDEP expects to have adopted such State regulations by January 2004.

NDEP and EPA desire to continue to have NDEP implement and enforce the Federal PSD regulations to the extent possible while NDEP proceeds with adopting State regulations to fully implement the revised PSD regulations. Accordingly, on June 3, 2003, the EPA and NDEP entered into the partial Delegation Agreement to issue Federal Prevention of Significant Deterioration (PSD) permits. A copy of the agreement delegating partial PSD permitting authority is available for inspection and copying at the addresses provided above.

As part of the transition process for implementing the new provisions, NDEP and EPA intend to allow permit applicants the opportunity to re-evaluate their projects in light of the new Federal PSD requirements if they so choose.

II. EPA Action

Pursuant to 40 CFR 52.21(u), EPA delegates to NDEP responsibility for implementing and enforcing part of the Federal PSD regulations for all sources located in the State of Nevada under NDEP jurisdiction. NDEP is delegated to implement and enforce the Federal PSD regulations for any new major stationary source and for any modification of a major source that is a major modification. Region 9 has retained the authority to make applicability determinations under the revised PSD provisions effective March 3, 2003. Both EPA and NDEP acknowledge that under certain circumstances the State PSD regulations and Federal PSD regulations have different applicability criteria and that obtaining an exemption under one set of PSD regulations does not relieve a facility from compliance with the other PSD regulations.

List of Subjects in 40 CFR Part 52

Environmental protection, Air pollution control, Intergovernmental regulations, Reporting and recordkeeping requirements.

Dated: August 21, 2003.
Laura Yoshii,
Acting Regional Administrator, Region IX.

[FR Doc. 03-22648 Filed 9-5-03; 8:45 am]

BILLING CODE 6560-50-P